ENVIRONMENTAL PROTECTION AGENCY

[EPA-HQ-OAR-2007-1182 and EPA-HQ-OAR-2007-1184; FRL9978-86-OAR]

Proposed Information Collection Request; Comment Request on Two Proposed Information Collection Requests

AGENCY: Environmental Protection Agency (EPA).

ACTION: Notice.

SUMMARY: The Environmental Protection Agency (EPA) is planning to submit the two information collection requests (ICRs) listed in this notice to the Office of Management and Budget (OMB) for review and approval in accordance with the Paperwork Reduction Act. Before doing so, EPA is soliciting public comments on specific aspects of the proposed information collections as described below. This is a proposed extension of the two ICRs, which are currently approved through July 31, 2018 and August 31, 2018, as specified for each item in the text below. An Agency may not conduct or sponsor and a person is not required to respond to a collection of information unless it displays a currently valid OMB control number.

DATES: Comments must be submitted on or before July 30, 2018.

ADDRESSES: Submit your comments, referencing the Docket ID Numbers specified under each item below, online using www.regulations.gov (our preferred method), by email to a-and-r-Docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Ms. Nydia Y. Reyes-Morales, U.S. Environmental Protection Agency, 1200 Pennsylvania Avenue NW, Mail Code 6405A, Washington, DC 20460; telephone number: 202-343-9264; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

ICR #1: “Emissions Certification and Compliance Requirements for Nonroad Compression-ignition Engines and On-highway Heavy Duty Engines (Revision to an existing package),” (EPA ICR No. 1684.20, OMB Control No. 2060-0287)

Docket ID Number: EPA-HQ-OAR-2007-1182

Abstract: For this ICR, EPA is seeking a revision to an existing package with a three-year extension. The previous ICR 1684.18 covers certification and compliance requirements for the following industries: Nonroad (NR) compression-ignition (CI) engines and equipment, marine CI engines in Categories 1 and 2; and heavy-duty (HD) engines. In this revision, we are incorporating the following ICRs into ICR 1684.20, either in whole or in part as shown in Table 1, to eliminate redundancy and avoid duplication.

Table 1—List of ICRs Consolidated Into ICR 1684.20
ICR information | Industries covered | Reason for consolidation | Consolidated portion
Control of Emissions from New Marine Compression-Ignition Engines at or Above 30 Liters per Cylinder, EPA No. 2345.03; OMB No. 2060-0641; expiring March 31, 2020 | Category 3 Marine Engines | Categories 1 & 2 are already included in 1684 | Incorporated in its entirety.
Engine Emission Defect Information Reports and Voluntary Emission Recall Reports, EPA No. 0282.17; OMB No. 2060-0048; expiring on November 30, 2020 | All heavy-duty, spark ignition and compression ignition engines | Defect reporting stems from certification; same respondents as 1684 | Portion related to HD and NR compression ignition industries only.
Emissions Certification and Compliance Requirements for Locomotives and Locomotive Engines, EPA No. 1800.07; OMB No. 2060-0392; expiring July 31, 2018 (in process) | Locomotives, locomotive engines and remanufacturing kits | Same programs as those already included in 1684. Some of the same respondents | Incorporated in its entirety.
Certification and Compliance Requirements for Medium- and Heavy-Duty Engines and Vehicles, EPA No. 2394.03; OMB No. 2060-0678; expiring on April 30, 2018 (in process) | Medium-heavy duty engines and vehicles | Certification programs for HD engines already in 1684. Some of the same respondents | Incorporated in its entirety.

With this consolidation, we are combining all certification and compliance burden associated with the heavy-duty and nonroad compression-ignition engine, equipment and vehicle industries under a single ICR. Under the locomotive and marine CI Category 3 ICRs, manufacturers submit certification applications and compliance data in the same manner (and responding to very similar requirements) as described in ICR 1684. In fact, ICR 1684 already covers Marine CI Categories 1 and 2 engines. ICR 2394.03 covers the incremental burden associated with adding greenhouse gas and fuel economy data to a previously existing certification application process covered under ICR 1684. The Defects and Recalls ICR covers the defect reporting and voluntary recalls for HD, CI and spark-ignition engines; a process that stems from the certification requirements covered in ICR 1684. Many companies respond to two or more of these collections.

Title II of the Clean Air Act, (42 U.S.C. 7521 et seq.; CAA), charges the Environmental Protection Agency (EPA) with issuing certificates of conformity for those engines and vehicles that comply with applicable emission requirements. Such a certificate must be issued before those products may be legally introduced into commerce. To apply for a certificate of conformity, manufacturers are required to submit descriptions of their planned production, detailed descriptions of emission control systems and test data. This information is organized by “families,” groups of engines/vehicles expected to have similar emission characteristics.

The emission values achieved during certification testing may also be used in the Averaging, Banking, and Trading (ABT) Program. The program allows engine manufacturers to bank credits for engine families that emit below the standard and use the credits to certify engine families that emit above the standard. They may also trade banked credits with other manufacturers. Participation in the ABT program is voluntary.

The CAA also mandates EPA to verify that manufacturers have successfully translated their certified prototypes into mass produced engines; and that these engines comply with emission standards throughout their useful lives. EPA verifies this through `Compliance Programs' which include Production Line Testing (PLT), In-use Testing and Selective Enforcement Audits, (SEAs). Not all programs apply to all industries included in this ICR. PLT, which only applies to marine engines, is a self-audit program that allows engine manufacturers to monitor their products' emissions profile with statistical certainty and minimize the cost of correcting errors through early detection. In-use testing allows manufacturers and EPA to verify compliance with emission standards throughout an engine family's useful life. Through SEAs, EPA verifies that test data submitted by engine manufacturers is reliable and testing is performed according to EPA regulations.

Under the Transition Program for Equipment Manufacturers (TPEM), NRCI equipment manufacturers may delay compliance with Tier 4 standards for up to seven years as long as they comply with certain limitations. The program seeks to ease the impact of new emission standards on equipment manufacturers as they often need to redesign their products to accommodate changes in engine design. Participation in the program is voluntary.

There are varying recordkeeping and labeling requirements under all programs.

The information requested is collected by the Compliance Division (CD), Office of Transportation and Air Quality, Office of Air and Radiation, EPA. CD uses this information to issue certificates of conformity and ensure that manufacturers comply with applicable regulations and the CAA. Some HD data is also used by the National Highway Traffic Safety Administration (NHTSA) to implement their programs under 49 U.S.C. 32902. EPA's and NHTSA's Office of Enforcement and Compliance Assurance and the Department of Justice may use the information for enforcement purposes. Most of the information is collected in electronic format and stored in CD's databases.

Manufacturers may assert a claim of confidentiality over information provided to EPA. Confidentiality is granted in accordance with the Freedom of Information Act and EPA regulations at 40 CFR part 2. Non-confidential information may be disclosed on OTAQ's website or upon request under the Freedom of Information Act to trade associations, environmental groups, and the public.

Form Numbers: See Table 2.

Table 2—Forms Related to ICR 1684.20
Form | No.
HD/NR Engine Manufacturer Annual Production Report | 5900-90.
AB&T Report for Nonroad Compression Ignition Engines | 5900-125.
AB&T Report for Heavy-duty On-highway Engines | 5900-134.
AB&T Report for Locomotives | 5900-274.
AB&T Report for Marine Compression-ignition Engines | 5900-125.
PLT Report for Marine CI CumSum | 5900-297.
PLT Report for Marine CI Non-CumSum | 5900-298.
PLT Report for Locomotives | 5900-135.
Locomotive Installation Audit Report | 5900-273.
In-use Testing for Locomotives | 5900-93.
In-use Testing for Non-Road Engines | 5900-93.
Replacement Engine Exemption Report | 6900-5414.
TPEM Equipment Manufacturer Notification | 5900-242.
TPEM Equipment Manufacturer Report | 5900-240.
TPEM Engine Manufacturer Report | 5900-241.
TPEM Importers Notification | In process.
TPEM Importers Annual Report | In process.
TPEM Bond Worksheet | 5900-239.
TPEM Hardship Relief Application Questionnaire | 5900-465.
TPEM Hardship Relief Prescreening Questionnaire | 6900-02.

Respondents/affected entities: Entities potentially affected by this action are manufacturers of engines, equipment and vehicles in the nonroad compression ignition (CI), marine CI, locomotives and medium- and heavy-duty on-highway industries. There are some requirements for marine CI vessel owners and operators and owners of HD truck fleets.

Respondent's obligation to respond: Regulated manufacturers must respond to this collection if they wish to sell their products in the U.S., as prescribed by Section 206(a) of the CAA (42 U.S.C. 7521). Participation in some programs such as ABT and TPEM is voluntary, but once a manufacturer has elected to participate, it must submit the required information.

Estimated number of respondents: 2,823 (total).

Frequency of response: Quarterly, Annually, On Occasion, depending on the type of response.

Total estimated burden: 167,333 hours per year. Burden is defined at 5 CFR 1320.03(b).

Total estimated cost: $31,192,402 (per year), includes an estimated $18,976,585 annualized capital or maintenance and operational costs.

Changes in the Estimates: Despite the consolidation of 4 other ICRs into this collection, there is a preliminary decrease of 33,701 hours in the total estimated burden for ICR 1684.20 from the burden currently identified in the OMB Inventory of Approved ICR Burdens. This decrease is mainly due to (1) the end of most of TPEM and a sharp decrease in participants in the last years of the program; (2) a net decrease in the number of engine families in some industries/programs; and (3) respondents' heavy reliance on carry-over testing data. These estimates are subject to change as EPA evaluates additional information. The ICRs incorporated into this ICR will be discontinued or reduced after ICR 1684.20 is approved, significantly reducing the overall burden for these industries in OMB's Inventory of Approved Collections.

ICR #2: “Emissions Certification and Compliance Requirements for Locomotives and Locomotive Engines (Renewal),” (EPA ICR No. 1800.08, OMB Control No. 2060-0392)

Docket ID Number: EPA-HQ-OAR-2007-1184

Abstract: For this ICR, EPA is seeking a revision to an existing package with a three-year extension or until ICR 1684.20 is approved, whichever comes first. Since this ICR's burden is being consolidated into ICR 1684.20 (see previous ICR in this notice), this collection will be discontinued upon ICR 1684.20's approval to avoid duplicity.

Title II of the Clean Air Act, (42 U.S.C. 7521 et seq.; CAA), charges the Environmental Protection Agency (EPA) with issuing certificates of conformity for those engines that comply with applicable emission standards. Such a certificate must be issued before engines may be legally introduced into commerce. Under this ICR, EPA collects information necessary to issue certificates of compliance with emission standards and verify compliance with various programs and regulatory provisions pertaining to locomotives, locomotive engines, and locomotive remanufacturing kits (collectively referred to here as “engines” for simplicity). To apply for a certificate of conformity, manufacturers are required to submit descriptions of their planned production engines, including detailed descriptions of emission control systems and test data. This information is organized by “engine family” groups expected to have similar emission characteristics. Those manufacturers electing to participate in the Averaging, Banking and Trading (AB&T) Program are also required to submit information regarding the calculation, actual generation and usage of credits.

The Act also mandates EPA to verify that manufacturers have successfully translated their certified prototypes into mass produced engines, and that these engines comply with emission standards throughout their useful lives. Under the Production Line Testing Program (“PLT Program”), manufacturers are required to test a sample of engines as they leave the assembly line. This self-audit program allows manufacturers to monitor compliance with statistical certainty and minimize the cost of correcting errors through early detection. A similar audit program exists for the installation of locomotive remanufacturing kits. In-use testing allows manufacturers and EPA to verify compliance with emission standards throughout the locomotive's useful life. Through Selected Enforcement Audits, (SEAs), EPA verifies that test data submitted by engine manufacturers is reliable and testing is performed according to EPA regulations.

There are varying recordkeeping and labeling requirements under all programs.

The information requested is collected by the Compliance Division (CD), Office of Transportation and Air Quality, Office of Air and Radiation; and processed by the Diesel Engine Compliance Center (DECC). DECC uses this information to issue certificates of conformity and ensure compliance with applicable regulations and the CAA. The information may also be used by EPA's Office of Enforcement and Compliance Assurance and the Department of Justice for enforcement purposes. Most of the information is collected in electronic format and stored in CD's databases.

Manufacturers may assert a claim of confidentiality over information provided to EPA. Confidentiality is granted in accordance with the Freedom of Information Act and EPA regulations at 40 CFR part 2. Non-confidential information may be disclosed on OTAQ's website or upon request under the Freedom of Information Act to trade associations, environmental groups, and the public.

Form Numbers: 5900-274 (ABT Report); 5900-135 (PLT Report), 5900-273 (Installation Audit Report), 5900-90 (Annual Production Report); and 5900-93 (In-use Testing Report).

Respondents/affected entities: Respondents are manufacturers of locomotives, locomotive engines and locomotive remanufacturing kits.

Respondent's obligation to respond: Regulated manufacturers must respond to this collection if they wish to sell their products in the U.S., as prescribed by Section 206(a) of the CAA (42 U.S.C. 7521). Participation in ABT is voluntary, but once a manufacturer has elected to participate, it must submit the required information.

Estimated number of respondents: 16 (total).

Frequency of response: Quarterly, Annually, On Occasion, depending on the program.

Total estimated burden: 21,544 hours (per year). Burden is defined at 5 CFR 1320.03(b).

Total estimated cost: $2,862,117 (per year), includes $1,303,236 annualized capital or operation & maintenance costs.

Changes in the Estimates: To date, there are no changes in the total estimated respondent burden compared with the ICR currently approved by OMB. However, EPA is evaluating information that may lead to a change in the estimates.

Dated: May 24, 2018.
Byron J. Bunker,
Director, Compliance Division, Office of Transportation and Air Quality, Office of Air and Radiation.

[FR Doc. 2018-11756 Filed 5-30-18; 8:45 am]

BILLING CODE 6560-50-P